SECURITIES AND EXCHANGE COMMISSION

[Release No. 34-65662; File No. SR-CBOE-2011-102]

Self-Regulatory Organizations; Chicago Board Options Exchange, Incorporated; Notice of Filing and Immediate Effectiveness of a Proposed Rule Change To Adopt a Market-Maker Trade Prevention Order on CBOE Stock Exchange

November 1, 2011.

Correction

In notice document 2011-28694 appearing on pages 68798-68800 in the issue of November 7, 2011, make the following correction:

On page 68798, in the first column, the Release No. and the File No., which were inadvertently omitted from the document heading, are added to read as set forth above.

[FR Doc. C1-2011-28694 Filed 11-17-11; 8:45 am]

BILLING CODE 1505-01-D